OFFICE OF PERSONNEL MANAGEMENT

Submission for OMB Review; Comment Request for a New Customer Satisfaction Survey for the Workforce Compensation and Performance Service Web Pages

AGENCY: Office of Personnel Management.

ACTION: Notice

SUMMARY: In accordance with the Paperwork Reduction Act of 1995 (Public Law 104-13, May 22, 1995), this notice announces that the Office of Personnel Management (OPM) has submitted to the Office of Management and Budget a request for an emergency clearance to add a customer survey to the Workforce Compensation and Performance Service (WCPS) web pages located on the OPM web site, including the Performance Management Technical Assistance Center, the Compensation Administration pages, the Federal Classification System pages, and the Strategic Compensation page. This survey will allow WCPS to elicit customer feedback, and provide an opportunity for web page users to communicate their needs. Thus, the survey will further improve customer service. The WCPS web pages are used by Federal human resources specialists, managers, supervisors, employees, and the general public. Participation in the survey is voluntary. Readers complete the survey online. We estimate it will take 1 minute to complete the survey. Approximately 900 surveys will be completed annually. The total annual burden is 15 hours.

Comments are particularly invited on:

—Whether this collection of information is necessary for the proper performance of functions of the Office of Personnel Management, and whether it will have practical utility;

—Whether our estimate of the public burden of this collection is accurate, and based on valid assumptions and methodology; and

—Ways in which we can minimize the burden of the collection of information on those who may respond, through the use of the appropriate technological collection techniques or other forms of information technology.

For copies of this proposal, contact Mary Beth Smith-Toomey on (202) 606-8358, or e-mail to mbtoomey@opm.gov.

DATES: Comments on this proposal should be received on or before September 15, 2000.

ADDRESSES: Send or deliver comments to—

Peggy Higgins, Chief, Performance Management and Incentive Awards Division, U.S. Office of Personnel Management, 1900 E Street, NW, Room 7412, Washington, DC 20415-8340

and

Joseph Lackey, OPM Desk Officer, Office of Information and Regulatory Affairs, Office of Management and Budget, New Executive Office Building, NW., Room 10235, Washington, DC 20503

FOR INFORMATION REGARDING ADMINISTRATIVE COORDINATION CONTACT: Karen Lebing, Team Leader, Outreach & Operations, Performance Management and Incentive Awards Division, (202) 606-2720.

U.S. Office of Personnel Management.
Janice R. Lachance.
Director.

[FR Doc. 00-20654 Filed 8-15-00; 8:45 am]

BILLING CODE 6325-01-P